DEPARTMENT OF JUSTICE

Antitrust Division

Notice Pursuant to the National Cooperative Research and Production Act of 1993—Automation and Public Safety Common Solutions Consortium

Notice is hereby given that, on October 24, 2017, pursuant to Section 6(a) of the National Cooperative Research and Production Act of 1993, 15 U.S.C. 4301 et seq. (“the Act”) Automation and Public Safety Common Solutions Consortium (“APSCS Consortium”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: General Motors LLC, Warren, MI; Ford Motor Company, Dearborn, MI; Honda R&D Americas, Inc., Torrance, CA; Hyundai-Kia America Technical Center, Inc., Superior Township, MI; Mercedes-Benz Research & Development North America, Ann Arbor, MI; Nissan Technical Center North America, Farmington Hills, MI; Toyota Motor North America, Plano, TX; and Volvo Group North America, Costa Mesa, CA. The general area of APSCS Consortium's planned activity is collaboration to conduct multiple research projects limited to specific areas in which the participants believe common solutions to specifically defined technical goals will speed the development and ultimate consumer access to safe Automated Driving Systems-equipped (ADS-equipped) vehicles. APSCS Consortium's objectives are to gain further knowledge and understanding of ADS-equipped vehicle interactions with public safety through research into common operational use cases.

Patricia A. Brink,
Director of Civil Enforcement, Antitrust Division.

[FR Doc. 2017-24767 Filed 11-15-17; 8:45 am]

BILLING CODE P